FEDERAL COMMUNICATIONS COMMISSION

47 CFR Part 73

[DA 04-1285, MB Docket No. 03-232, RM-10819]

Radio Broadcasting Services; Ahoskie, NC, Chase City, VA, Creedmoor, Gatesville, and Nashville, NC

AGENCY: Federal Communications Commission.

ACTION: Final rule.

SUMMARY: The Audio Division, at the request of Joyner Radio, Inc, licensee of Station WFXQ(FM), reallots Channel 260C3 from Chase City, Virginia to Creedmoor, North Carolina, as the community's first local aural transmission service, and modifies Station WFXQ(FM) license accordingly. Channel 260C3 can be allotted to Creedmoor in compliance with the Commission's minimum distance separation requirements provided there is a site restriction of 16.3 kilometers (10.1 miles) east of the community. The reference coordinates for Channel 260C3 at Creedmoor are 36-06-56 North Latitude and 78-30-22 West Longitude. This document also substitutes Channel 257A for Channel 259A at Nashville and modifies the license of Station WZAX(FM) accordingly; and reallots Channel 257A from Ahoskie to Gatesville, North Carolina and modifies the license of FM Station WQDK accordingly. Channel 257A can be allotted to Nashville at the current license site of Station WZAX(FM). The license coordinates for Channel 257A at Nashville are 35-57-01 North Latitude and 77-57-26 West Longitude. Channel 257A can be allotted to Gatesville in compliance with the Commission's minimum distance separation requirements provided there is a site restriction of 12.9 kilometers (8.0 miles) south of the community. The reference coordinates for Channel 257A at Gatesville, North Carolina are 36-17-02 North Latitude and 76-43-40 West Longitude.

DATES: Effective August 2, 2004.

ADDRESSES: Federal Communications Commission, 445 Twelfth Street, SW., Washington, DC, 20554.

FOR FURTHER INFORMATION CONTACT: Rolanda F. Smith, Media Bureau, (202) 418-2180.

SUPPLEMENTARY INFORMATION: This is a summary of the Commission's Report and Order, MB Docket No. 03-232 adopted May 19, 2004, and released May 21, 2004. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC, 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under North Carolina, is amended by removing Ahoskie, Channel 257A, by adding Creedmoor, Channel 260C3, by adding Gatesville, Channel 257A, by removing Channel 259A and by adding Channel 257A at Nashville.

3. Section 73.202(b), the Table of FM Allotments under Virginia, is amended by removing Chase City, Channel 260C3.

Federal Communications Commission.
John A. Karousos,
Assistant Chief, Audio Division, Media Bureau.

[FR Doc. 04-13992 Filed 6-21-04; 8:45 am]

BILLING CODE 6712-01-P